DEPARTMENT OF AGRICULTURE

Submission for OMB Review; Comment Request

The Department of Agriculture has submitted the following information collection requirement(s) to OMB for review and approval under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by June 23, 2025 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Business-Cooperative Service

Title: Rural Development Co-operative Agreements.

OMB Control Number: 0570-0074.

Summary of Collection: Pursuant to the Federal Agricultural Improvement Act of 1996 (Pub. L. 104-127), the U.S. Department of Agriculture (USDA) received authorization from Congress under 7 U.S.C. 2204b(b)(4) to enter into cooperative agreements for the purpose of improving the coordination and effectiveness of programs that benefit rural areas. This authority is referred to as the Rural Development Cooperative Agreement (RDCA) program. There are three agencies within USDA that administer programs that specifically target rural areas: the Rural Business-Cooperative Service (RBS), the Rural Housing Service (RHS), and the Rural Utilities Service (RUS).

Each year, USDA receives proposals from the public that are not in response to a specific program announcement. These proposals are called unsolicited proposals. If a proposal is related to one or more programs administered by RD, it will be routed for review and possible consideration for a cooperative agreement using the RDCA authority. If the proposal is unique or innovative, then an agency has authority to enter into a cooperative agreement without competition (see 2 CFR 415.1(d)(6)).

USDA may, alternatively, issue an invitation to submit applications for a cooperative agreement using the RDCA authority. These proposals are called solicited proposals. Solicited proposals would typically be announced via a Federal Register Notice. An example of a solicited proposal is an initiative covered under this collection package called the Rural Placemaking Innovation Challenge (RPIC). RPIC is a technical assistance and planning process rural community leaders use to create places where people want to live, work and play. This initiative provides planning support and technical assistance to foster placemaking activities in rural communities. Funds will help enhance capacity for broadband access; preserve cultural and historic structures; and support the development of transportation, housing, and recreational spaces. RPIC is awarded through a competitive solicitation procedure—and proposals are evaluated using a Scoring Process. The scoring criterion is targeted to applications that support communities that would address (1) Distressed Areas as defined by the Economic Innovation Group Distressed Communities Index (DCI) proposal and (2) Broadband Infrastructure Planning.

Need and Use of the Information: The Agency provides forms and/or guidelines to assist in collection and submission of the information required. In some cases, use of Agency forms is optional and the applicant may submit the information required on other forms. The Agency will utilize standard and existing Rural Development forms to the greatest extent possible to continue to meet the needs of the program. The forms or related items completed by the applicant are submitted to and evaluated by the Agency. Failure to collect proper information from applicants could result in improper determinations of servicing assistance, hinder the government's recovery of such loans as well as encumber customer service.

Description of Respondents: Individuals or Households.

Number of Respondents: 64.

Frequency of Responses: Recordkeeping; Reporting: Annually.

Total Burden Hours: 1,056.

Levi S. Harrell,
Departmental Information Collection Clearance Officer.

[FR Doc. 2025-09252 Filed 5-22-25; 8:45 am]

BILLING CODE 3410-XY-P